NATIONAL CAPITAL PLANNING COMMISSION

Notice of Final Adoption and Effective Date; Submission Guidelines Related to Antennas on Federal and Certain District Buildings and Land

AGENCY: National Capital Planning Commission.

ACTION: Notice of final adoption and effective date.

SUMMARY: On December 3, 2020, the National Capital Planning Commission (NCPC) adopted revisions to the Submission Guidelines updating the requirements and criteria for antennas placed on Federal and certain District buildings and lands in the National Capital Region. Federal and District agency applicants who are seeking to place antennas on their property are subject to review by the Commission following a process laid out in the Submission Guidelines. The revisions to the Antenna Submission Guidelines address several deficiencies in the current guidelines, namely: Adding definitions for small cells and temporary antennas; including several new criteria to help protect viewsheds and address multiple antennas on building rooftops; and identifying the review process for temporary and small cell antennas. The final amended document can be found at: https://www.ncpc.gov/initiatives/antennas/.

DATES: The revised Submission Guidelines will become effective February 8, 2021.

FOR FURTHER INFORMATION CONTACT: Carlton Hart at (202) 482-7252 or info@ncpc.gov.

Authority: 40 U.S.C. 8721(e)(2).

Dated: December 7, 2020.
Anne R. Schuyler,
General Counsel.

[FR Doc. 2020-27150 Filed 12-9-20; 8:45 am]

BILLING CODE 7502-02-P